DEPARTMENT OF DEFENSE

Department of the Air Force

Proposed Collection; Comment Request

AGENCY: Department of the Air Force, DoD.

ACTION: Notice.

In compliance with Section 3506(c)(2)(A) of the Paperwork Reduction Act of 1995, the Air Force Research Laboratory announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received by June 24, 2005.

ADDRESSES: Written comments and recommendations on the proposed information collection should be sent to Air Force Research Laboratory, Human Effectiveness Directorate Directed Energy Bioeffects Division Radio Frequency Radiation Branch, AFRL/HEDR, 8303 Hawks Road, Bldg. 1162, Brooks City-Base, TX 78235.

FOR FURTHER INFORMATION CONTACT: To request more information on this proposed information collection or to obtain a copy of the proposed and associated collection instruments, please write to above address, or call 1st Lt. Keith White of the Air Force Research Laboratory, HEDR at 210-536-5959.

Title and OMB Number: Control Force Experiences with Crowds Data Collection; OMB Number 0701-TBD.

Needs and Uses: The Air Force Research Laboratory Human Effectiveness Directorate (AFRL/HEDR), under the funding of the Joint Non-Lethal Weapons Directorate (JNLWD), is conducting crowd behavior research. The AFRL/HEDR is currently working to collect and assess crowd behavior data in an effort to supply a predictive model of crowd behavior for the assessment and implementation of various Non-Lethal Weapons platforms. This research has, in part, been recommended from Penn State University's Applied Research Laboratory Human Effects Advisory Panel (HEAP). Specifically, the HEAP report entitled “Crowd Behavior, Crowd Control, and the use of Non-lethal Weapons” offers a crowd behavior research plan that is guided by a need to discover the underlying factors of crowd behavior (Kenny, Farrer, Heal, Ijames, McPhail, Odenthal, Taylor & Waddington, 2001). The AFRL/HEDR crowd behavior research team has acknowledged the value of control force members' experiences in the validation of invalidation of the crowd behavior variables currently under investigation and the research proposed in this protocol is expected to yield a true account of control force members' crowd management experiences. Any information control force members can provide about their experiences managing crowds is instrumental in the development of the aforementioned predictive model of crowd behavior. This model will eventually contribute to a training module that warfighters will utilize to refine their crowd management skills for future missions.

Affected Public: The affected public will be United States military servicemen who have acquired direct experience with crowds outside the continental U.S. and U.S. civilian law enforcement officers from specified metropolitan areas.

Annual Burden Hours: 100-200 hours.

Number of Respondents: 200, personally interviewed or administered a paper survey.

Responses per Respondent: Either one interview or survey administration.

Average Burden per Response: 30 minutes-1 hour.

Frequency: One-time.

SUPPLEMENTARY INFORMATION:

Summary of Information Collection

The data collection procedures proposed in this protocol will consist of dyadic interviews and survey administration. Two hundred adult volunteer participant (n = 200) will be recruited from among civilian law enforcement agencies and military personnel who have recently experienced crowd management situations while on deployment. Interview participants will meet individually with one researcher. Survey participants will complete the questionnaire as administered by available investigators or their respective superior officer(s). The research will be conducted at military installations that serve as crowd management training centers and police departments throughout the U.S. that implement crowd tactics, training, and procedures. Interview transcripts and written survey responses will be sorted and coded according to the content of the responses. This coding process is intended to reveal which features of a crowd situation control forces consistently identify as significant to effective crowd management.

Dated: April 18, 2005.
Patricia L. Toppings,
Alternate OSD Federal Register Liaison Officer, Department of Defense.

[FR Doc. 05-8149 Filed 4-22-05; 8:45 am]

BILLING CODE 5001-06-M